DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 72842-72843, dated December 7, 2005) is amended to reflect the reorganization of the Office of Health and Safety, within the Office of the Director, Centers for Disease Control and Prevention.

Section C-B, Organization and Functions, is hereby amended as follows:

Delete in its entirety the titles and functional statements for the Office of Health and Safety (CA1).

After the mission statement for the Management Information Systems Office (CAJN), Office of the Chief Operating Officer (CAJ), insert the following:

Office of Health and Safety (CAJP). The key responsibility of the Office of Health and Safety (OHS) of the Centers for Disease Control and Prevention (CDC) is to protect the welfare of workers as they carry out their public health mission. By creating a safe, healthful workplace environment, by preventing work-related injury and illness, and by promoting safe work practices, the office improves worker morale, increases efficiency and contributes to the creation of sound public health science. OHS also serves as a significant resource of subject matter expertise for the national and international community in the field of biosafety, and works with key partners, such as the World Health Organization and others, on critical health and safety issues around the globe.

More specifically, the OHS: (1) Provides leadership and service for the CDC Health and Safety Program (HSP) to proactively ensure safe and healthy workplaces at CDC worksites for CDC employees, contractors, and visitors (including deployed personnel), and to protect the environment and communities adjacent to CDC-owned and leased facilities; (2) promotes healthy and safe work practices to prevent injury and illness, and provides occupational medical, employee assistance, and worksite health promotion/lifestyle services; (3) provides advice and counsel to the CDC Director and other senior OD and national centers' staff on health, safety, and environment-related matters, and to individuals and organizations nationally and internationally, as requested; (4) provides advice, counsel, and direct support services to supervisors and employees on health, safety, and environment-related matters; (5) assures compliance with applicable federal, state, and local health, safety, and environmental (HSE) laws and regulations; (6) provides liaison with both CDC safety officers and staff, and other partners such as Health and Human Services (HHS) health and safety officials, Occupational Safety and Health Administration (OSHA), Environmental Protection Agency (EPA), Nuclear Regulatory Commission (NRC), and other governmental and non-governmental organizations on HSE issues; (7) ensures updating and critical review of the CDC/NIH Biosafety in Microbiological and Biomedical Laboratories; and (8) serves as a World Health Organization Collaborating Center for Applied Biosafety Programs and Training.

Office of the Director (CAJP1). (1) Serves as the principal advisor to the Director, CDC, with responsibility for the CDC HSP; (2) plans, identifies, and requests required resources; directs, manages, and evaluates the operations and programs of OHS; (3) assures coordination and cooperation among OHS staff; (4) provides advice and counsel to the CDC Director, the Chief Operating Officer, and other senior OD and NC officials on workplace HSE matters; (5) assures compliance with applicable federal, state, and local HSE laws, regulations, and policies; (6) develops and implements new HSE injury/illness prevention programs indicated by surveys, incident investigations, reports of unsafe/unhealthful working conditions and other means; (7) assures cross-cutting, collaborative team functionality in building and maintaining a successful safety program; (8) assures OHS coordination with the Office of Security and Emergency Preparedness, the Building and Facilities Office, and other staff and staff service offices on HSE matters; (9) serves as Executive Secretary for the CDC Health and Safety Advisory Board; (10) serves as Executive Secretary for the CDC Health and Safety Committee; (11) provides liaison with both CDC safety officers and staff, and other partners such as HHS, OSHA, EPA, NRC, and other governmental and non-governmental organizations on HSE issues; (12) when asked, consults with individuals and organizations nationally and internationally on issues such as laboratory safety, biosafety, occupational health issues in the biomedical laboratory and animal care setting, and deployment health and safety; (13) maintains oversight and support for the CDC safety committees in operational components with representation, attendance, interaction and collaboration, and collaboration with non-Atlanta health and safety officers and staff; and (14) provides an annual report on the CDC HSE and other reports required or requested by CDC management officials, HHS, and regulatory agencies.

Dated: December 22, 2005.
William H. Gimson,
Chief Operating Officer, Centers for Disease Control and Prevention (CDC).

[FR Doc. 06-58 Filed 1-4-06; 8:45 am]

BILLING CODE 4160-18-M